DEPARTMENT OF ENERGY

Federal Energy Regulatory Commission

[Docket No. CP22-63-000]

ANR Pipeline Company; Notice of Schedule for the Preparation of an Environmental Assessment for the Proposed Winfield Storage Field Abandonment Project

On March 2, 2022, ANR Pipeline Company (ANR) filed an application in Docket No. CP22-63-000 requesting Authorization pursuant to Section 7(b) of the Natural Gas Act to abandon certain natural gas pipeline facilities in Montcalm County, Michigan. The proposed project is known as the Winfield Storage Field Abandonment Project (Project). According to ANR, due to the Winfield Storage Field's late season performance reliability and a reduction of the storage field's certificated working gas capacity in 2014, the Winfield Storage Field is not relied upon to meet ANR's firm contractual obligations on its system.

On March 16, 2022, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹

¹ 40 CFR 1501.10 (2020).

Schedule for Environmental Review

Issuance of EA—September 29, 2022

90-day Federal—Authorization Decision Deadline ²—December 28, 2022

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

ANR proposes to abandon the Winfield Storage Field by conducting the following activities: Permanently plugging 72 natural gas injection/withdrawal wells; abandoning 15 miles of associated 4-inch, 6-inch, and 10-inch diameter well lines in the storage field; abandoning 4.43 miles of the 16-inch-diameter Winfield Interconnect storage lateral (Lateral 249); abandoning by removal of the Winfield Compressor Station, including all belowground and aboveground structures; and abandoning by removal of all below-ground and aboveground appurtenances in the storage field.

Background

On April 12, 2022, the Commission issued a Notice of Scoping Period Requesting Comments on Environmental Issues for the Proposed Winfield Storage Field Abandonment Project (Notice of Scoping). The Notice of Scoping was sent to affected landowners; federal, state, and local government agencies; elected officials; environmental and public interest groups; Native American tribes; other interested parties; and local libraries and newspapers. In response to the Notice of Scoping, the Commission received comments regarding potential impacts on private water supply wells, soil erosion and sedimentation control permits, and installation and maintenance of erosion control measures. All substantive comments will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

Additional information about the Project is available from the Commission's Office of External Affairs at (866) 208-FERC or on the FERC website (www.ferc.gov). Using the “eLibrary” link, select “General Search” from the eLibrary menu, enter the selected date range and “Docket Number” excluding the last three digits (i.e., CP22-63), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: May 12, 2022.
Debbie-Anne A. Reese,
Deputy Secretary.

[FR Doc. 2022-10682 Filed 5-17-22; 8:45 am]

BILLING CODE 6717-01-P